DEPARTMENT OF ENERGY

Federal Energy Regulatory Commission

[Project No. 14801-000]

Skandana, LLC; Notice of Preliminary Permit Application Accepted for Filing and Soliciting Comments, Motions To Intervene, and Competing Applications

On September 7, 2016, Skandana, LLC, filed an application for a preliminary permit, pursuant to section 4(f) of the Federal Power Act (FPA), proposing to study the feasibility of the Eagleville Hydroelectric Project (project) to be located on the Chenango River, near the Village of Morrisville, Madison County, New York. The sole purpose of a preliminary permit, if issued, is to grant the permit holder priority to file a license application during the permit term. A preliminary permit does not authorize the permit holder to perform any land-disturbing activities or otherwise enter upon lands or waters owned by others without the owners' express permission.

The proposed project would consist of the following new facilities: (1) An approximately 750-foot-long and 35-foot-wide concrete dam; (2) an impoundment with a surface area of 80 acres and a volume of 459.1 acre-feet at a normal water surface elevation of 1,330.0 feet above mean sea level; (3) a concrete spillway; (4) a steel penstock; (5) a three story high concrete, wood and steel powerhouse 120 feet wide by 249 feet long; (6) two turbine-generating units with a total installed capacity of 1,000 kilowatts; (7) a tailrace; (8) an approximately 8-mile-long, 115-kilovolt transmission line from the powerhouse to the Cody Road substation; and (9) appurtenant facilities. The estimated annual generation of the Eagleville Hydroelectric Project would be 8,500,000 kilowatt-hours.

Applicant Contact: Mr. Stephen T. Helmer, 105 Marangale Road, Manlius, New York 13104-1008; phone: (315) 233-8286.

FERC Contact: Tim Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14801-000.

More information about this project, including a copy of the application, can be viewed or printed on the “eLibrary” link of the Commission's Web site at http://www.ferc.gov/docs-filing/elibrary.asp. Enter the docket number (P-14801) in the docket number field to access the document. For assistance, contact FERC Online Support.

Dated: October 20, 2016.
Kimberly D. Bose,
Secretary.

[FR Doc. 2016-25840 Filed 10-25-16; 8:45 am]

BILLING CODE 6717-01-P